DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Ralph A. Highshaw, M.D., M.D. Anderson Cancer Center: Based on the report of an investigation conducted by the M.D. Anderson Cancer Center (MDACC) and additional analysis conducted by ORI in its oversight review, the U.S. Public Health Service (PHS) found that Ralph A. Highshaw, M.D., Fellow, Department of Urologic Surgery, MDACC, engaged in scientific misconduct while supported by National Cancer Institute (NCI), National Institutes of Health (NIH), postdoctoral training grant T32 CA079449-01A1.

Specifically, PHS found that Dr. Highshaw engaged in scientific misconduct by plagiarizing nine pages of a twenty-one page expert review article entitled “Chemoprevention of Urologic Cancer.”

Dr. Highshaw has entered into a Voluntary Exclusion Agreement (Agreement ) in which he has voluntarily agreed, for a period of three (3) years, beginning on December 12, 2005:

(1) That he is required to certify in every PHS research application or report, and any other text, article, or manuscript, that all contributors are properly cited or otherwise acknowledged; the certification by the Respondent must be endorsed by an institutional official, and a copy of the certification is to be sent to ORI by the institution;

(2) To ensure that any institution employing him submits, in conjunction with each application for PHS funds, annual reports, manuscripts, or abstracts of PHS funded research in which the Respondent is involved, a certification that the data provided by the Respondent are based on actual experiments or are otherwise legitimately derived, and that the data, procedures, and methodology are accurately reported in the application or report; the Respondent must ensure that the institution also sends a copy of the certification to ORI; and

(3) To exclude himself from serving in any advisory capacity to PHS including but not limited to service on any PHS advisory committee, board, and/or peer review committee, or as consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E5-8201 Filed 12-30-05; 8:45 am]

BILLING CODE 4150-31-P